PEACE CORPS

Submission for OMB Emergency Review: Request for Comments

AGENCY: Peace Corps.

ACTION: Notice of information collection—OMB emergency review and request for comments requested.

SUMMARY: The Peace Corps has submitted the following information collection request, utilizing emergency review procedures, to the Office of Management and Budget (OMB) for review and clearance in accordance with the Paperwork Reduction Act of 1995 and OMB regulations. OMB approval has been requested by the Office of Strategic Information, Research and Planning (OSIRP). OMB is particularly interested in comments that: Evaluate whether the proposed collection of information is necessary for the proper performance of the functions of the agency, including whether the information will have practical utility; Evaluate the accuracy of the agency's estimate of the burden of the proposed collection of information, including the validity of the methodology and assumptions used; Enhance the quality, utility, and clarity of the information to be collected; and Minimize the burden of the collection of information on those who are to respond, including through the use of appropriate automated, electronic, mechanical, or other technological collection techniques or other forms of information technology, e.g., permitting electronic submissions of responses.

DATES: Comments on this proposal for emergency review should be received by May 22, 2020. If granted, the emergency approval is only valid for 180 days. We are requesting OMB to take action within two calendar days from the close of this Federal Register Notice on the request for emergency review.

ADDRESSES: Interested persons are invited to submit written comments on the proposed information collection to the Office of Information and Regulatory Affairs, Office of Management and Budget, 725 17th Street NW, Washington, DC 20503, Attention: Desk Officer for the Peace Corps or sent via email to oira_submission@omb.eop.gov or faxed to (202) 395-3086.

FOR FURTHER INFORMATION CONTACT: Virginia Burke, FOIA Officer, Peace Corps, 1275 First Street NE, Washington, DC 20526, (202) 692-1887, or email at pcfr@peacecorps.gov.

SUPPLEMENTARY INFORMATION: This process is conducted in accordance with 5 CFR 1320.13. The Peace Corps plans to follow this emergency request with a submission for a 3 year approval through OMB's normal PRA clearance process. We are seeking an emergency clearance to allow us to collect information from Returned Peace Corps Volunteers.

Title: Returned Peace Corps Volunteer Evacuation Survey.

OMB control number: Pending.

Type of Request: New Emergency Review.

Affected public: Volunteers, Trainees, and Response Volunteers, who were recently evacuated from their countries of service in response to the coronavirus disease 2019 (COVID 19) pandemic.

Respondents' obligation to reply: Voluntary.

Burden to the public:

a. Number of respondents: 7,000.

b. Frequency of response: 1.

c. Completion time: 15 Minutes.

d. Annual burden hours: 1,750.

e. Estimated cost to respondents: $0.00.

This notice issued in Washington, DC, on May 20, 2020.
Virginia Burke,
FOIA/Privacy Act Officer/Management.

[FR Doc. 2020-11267 Filed 5-22-20; 8:45 am]

BILLING CODE 6051-01-P